DEPARTMENT OF LABOR

Employment and Training Administration

[TA-W-82,920]

Cooper Interconnect, LLC, A Subsidiary of Eaton Corporation, Including On-Site Leased Workers From Aerotek, Adecco, J&J Staffing, Superior Talent and Randstad, Salem, New Jersey; Amended Certification Regarding Eligibility To Apply for Worker Adjustment Assistance

In accordance with Section 223 of the Trade Act of 1974, as amended (“Act”), 19 U.S.C. 2273, the Department of Labor issued a Certification of Eligibility to Apply for Worker Adjustment Assistance on July 30, 2013, applicable to workers of GDF SUEZ Mt. Tom Power Plant, a subsidiary of Cooper Interconnect, LLC, a subsidiary of Eaton Corporation, including on-site leased workers from Aerotek, Addeco, J&J Staffing and Superior Talent Resources, Salem, New Jersey. The Department's notice of determination was published in the Federal Register on August 27, 2013 (78 FR 52978).

In response to a request by the state workforce office in Trenton, New Jersey, the Department reviewed the certification for workers of the subject firm. The workers were engaged in the production of electrical connectors.

The investigation confirmed that leased workers from Randstad worked on-site at the subject firm.

Based on these findings, the Department is amending this certification to include on-site leased workers from Randstad, Salem, New Jersey.

The amended notice applicable to TA-W-82,920 is hereby issued as follows:

“All workers of Cooper Interconnect, LLC, a subsidiary of Eaton Corporation, including on-site leased workers from Aerotek, Adecco, J&J Staffing, Superior Talent Resources and Randstad, Salem, New, who became totally or partially separated from employment on or after July 18, 2013, through July 30, 2015, and all workers in the group threatened with total or partial separation from employment on the date of certification through two years from the date of certification, are eligible to apply for adjustment assistance under Chapter 2 of Title II of the Trade Act of 1974, as amended.”

Signed in Washington, DC this 2nd day of December, 2014.
Michael W. Jaffe,
Certifying Officer, Office of Trade Adjustment Assistance.

[FR Doc. 2014-29509 Filed 12-16-14; 8:45 am]

BILLING CODE 4510-FN-P